FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. Copies of the agreement are available through the Commission's Web site (www.fmc.gov) or by contacting the Office of Agreements at (202)-523-5793 or tradeanalysis@fmc.gov.

Agreement No.: 012386.

Title: K-Line/NYK Space Charter Agreement.

Parties: Kawasaki Kisen Kaisha, Ltd. and Nippon Yusen Kaisha.

Filing Party: Robert Shababb; NYK Line (North America) Inc.; 300 Lighting Way, 5th Floor; Secaucus, NJ 07094.

Synopsis: The agreement would authorize the parties to share vessels and vessel space in the trade between the U.S. and ports or places in a foreign country.

By Order of the Federal Maritime Commission.
Dated: January 21, 2016.
Rachel E. Dickon,
Assistant Secretary.

[FR Doc. 2016-01488 Filed 1-25-16; 8:45 am]

BILLING CODE 6731-AA-P